NATIONAL SCIENCE FOUNDATION

Request for Information on the CHIPS and Science Act Section 10343. Research Ethics

AGENCY: National Science Foundation.

ACTION: Request for Information.

SUMMARY: The U.S. National Science Foundation (NSF) is an independent federal agency that supports research at the frontiers of current knowledge, across all fields of science, engineering and education in all 50 states and U.S. territories. NSF is issuing this Request for Information (RFI) to seek input to inform the development of the agency's response to Section 10343. Research Ethics in the CHIPS and Science Act of 2022. NSF welcomes feedback from interested parties. This includes representatives from non-profit organizations, philanthropies, industry, local, state, and tribal government offices/agencies, K-12 schools and districts, institutions of higher education, trade, and/or vocational schools.

DATES: Interested persons or organizations are invited to submit comments on or before 11:59 p.m. (EST) on Friday, November 15, 2024.

ADDRESSES: To respond to this Request for Information, please use the official submission form available at: https://www.surveymonkey.com/r/ResearchEthicsRFI.

Respondents only need to provide feedback on one or more questions of interest or relevance to them. Each question is voluntary and optional. The response to each question has a 4,000-character limit including spaces.

FOR FURTHER INFORMATION CONTACT: For further information, please direct questions to Jason Borenstein through email: CHIPSethicsRFI@nsf.gov, phone: 703-292-4207, or mail: 2415 Eisenhower Avenue, Alexandria, VA 22314, USA.

SUPPLEMENTARY INFORMATION: Section 10343 (“Research Ethics”) of the CHIPS and Science Act of 2022 (Pub. L. 117-167) directs NSF to incorporate ethical, social, safety, and security considerations into the merit review process that is used to evaluate research projects or other activities for funding. Section 10343 notes that “a number of emerging areas of research have potential ethical, social, safety, and security implications that might be apparent as early as the basic research stage.” In addition, Section 10343 states that “the incorporation of ethical, social, safety, and security considerations into the research design and review process for Federal awards may help mitigate potential harms before they happen.” Moreover, Section 10343 states that “The Foundation should continue to work with stakeholders to promote best practices for governance of research in emerging technologies at every stage of research.”

Through this Request for Information, NSF seeks input on ways to incorporate ethical, social, safety, and security considerations into the agency's merit review process and to develop strategies for mitigating the potential harms of scientific research and amplifying societal benefits from such research. Responses to one or more of the questions listed below can be sent to NSF by using the official submission form.

Ethical, Social, Safety, and Security Considerations

Question 1: Describe ethical, social, safety, and/or security risks from current or emerging research activities that you believe might be of concern to the community, profession, or organization with which you are connected.

Question 2: Which products, technologies, and/or other outcomes from research do you think could cause significant harm to the public in the foreseeable future?

Question 3: Describe one or more approaches for identifying ethical, social, safety, and/or security risks from research activities and balancing such risks against potential benefits.

Question 4: Describe one or more strategies for encouraging research teams to incorporate ethical, social, safety, and/or security considerations into the design of their research approach. Also, how might the strategy vary depending on research type (for example, basic vs. applied) or setting (for example, academia or industry)?

NSF's Approach to Ethical, Social, Safety, and Security Considerations

Question 5: How might NSF work with stakeholders to promote best practices for governance of research in emerging technologies at every stage of research?

Question 6: How could ethical, social, safety, and/or security considerations be incorporated into the instructions for proposers or into NSF's merit review process? Also, what challenges could arise if the merit review process is modified to include such considerations?

Question 7: What other measures could NSF consider as it seeks to identify and mitigate ethical, social, safety, and/or security risks from research projects or other activities that the agency supports?

NSF, at its discretion, will use the information submitted in response to this RFI to help inform future program directions, new initiatives, and potential funding opportunities. The information provided will be analyzed, may appear in reports, and may be shared publicly on agency websites. Respondents are advised that the government is under no obligation to acknowledge receipt of the information or provide feedback to respondents with respect to any information submitted. No proprietary, classified, confidential, or sensitive information should be included in your response submission. The government reserves the right to use any non-proprietary technical information in any resultant solicitations, policies, or procedures.

(Authority: Public Law 117-167.)

Dated: August 22, 2024.
Suzanne H. Plimpton,
Reports Clearance Officer, National Science Foundation.

[FR Doc. 2024-19245 Filed 8-26-24; 8:45 am]

BILLING CODE 7555-01-P